ENVIRONMENTAL PROTECTION AGENCY

40 CFR Part 81

[CA-082-FOAb; FRL-7263-7]

Determination of Attainment of the 1-Hour Ozone Standard for San Diego County, CA

AGENCY: Environmental Protection Agency (EPA).

ACTION: Proposed rule.

SUMMARY: EPA is proposing to determine that the San Diego County area has attained the 1-hour ozone air quality standard by the deadline required by the Clean Air Act (CAA).

DATES: Comments on this proposal must be received by September 23, 2002.

ADDRESSES: Please address your comments to Dave Jesson, Air Planning Office (AIR-2), Air Division, U.S. EPA, Region 9, 75 Hawthorne Street, San Francisco, CA 94105-3901.

Copies of the State's submittal are available for public inspection during normal business hours at EPA's Region 9 office and at the following locations:

California Air Resources Board, 1001 I Street, Sacramento, CA 95814.

San Diego County Air Pollution Control District, 9150 Chesapeake Drive, San Diego, CA 92123-1096.

FOR FURTHER INFORMATION CONTACT: Dave Jesson, US EPA Region 9, at (415) 972-3957, or jesson.david@epa.gov.

SUPPLEMENTARY INFORMATION: In the Rules and Regulations section of this Federal Register, we are finding that the San Diego area has attained the 1-hour ozone National Ambient Air Quality Standards (NAAQS) under CAA Section 181(b)(2)(A). We are taking this action without prior proposal because we believe that the finding is not controversial. If we receive adverse comments, however, we will publish a timely withdrawal of the direct final rule and address the comments in subsequent action based on this proposed rule. We do not plan to open a second comment period, so anyone interested in commenting should do so at this time. If we do not receive adverse comments, no further activity is planned. For further information, please see the direct final action.

Dated: August 8, 2002.
Keith Takata,
Acting Regional Administrator, Region IX.

[FR Doc. 02-21561 Filed 8-22-02; 8:45 am]

BILLING CODE 6560-50-P